DEPARTMENT OF TRANSPORTATION

Federal Aviation Administration

Proposed Advisory Circular (AC) 120-EFB, Guidelines for the Certification, Airworthiness, and Operational Approval of Electronic Flight Bag Computing Devices

AGENCY: Federal Aviation Administration, DOT.

ACTION: Notice of availability of proposed AC and request for comments.

SUMMARY: This notice announces the availability of and requests comments on a proposed AC that provides guidance for the certification, airworthiness, and operational approval of portable and installed Electronic Flight Bag (EFB) aircraft computing devices. EFBs are electronic computing and/or communications equipment or systems used to display a variety of aviation data or perform a variety of aviation functions. In the past some of these functions were traditionally accomplished using paper references. The scope of EFB functionally may include data like connectivity. EFBs may be portable electronic devices or installed systems. The physical EFB display may use various technologies, formats, and forms of communication. This notice is necessary to give all interested persons the opportunity to present their views on the proposed AC.

DATES: Comments must be received on or before September 24, 2001.

ADDRESSES: Send all comments on the proposed AC to: Federal Aviation Administration, Flight Technologies and Procedures Division (Attention: AFS-400), 800 Independence Avenue SW., Washington, DC 20591, or electronically to garret.livack@faa.gov.

FOR FURTHER INFORMATION CONTACT: Gary Livack, AFS-400, at the address above, by email at garret.livack@faa.gov, or telephone at (202) 267-7954.

SUPPLEMENTARY INFORMATION:

Comments Invited

The proposed AC is available on the FAA Web site at http://www.faa.gov/avr/afs/acs/ac-idx.htm, under AC No. 120-EFB. Interested persons are invited to comment on the proposed AC by submitting such written data, view, or arguments, as they may desire. Please identify AC 120-EFB, Guidelines for the Certification, Airworthiness, and operational Approval of Electronic Flight Bag Computing Devices, and submit comments, either hard copy or electronic, to the appropriate address listed above. Comments may be inspected at the above address between 9:00 a.m. and 4:00 p.m. weekdays, except Federal holidays.

Issued in Washington, DC on July 17, 2001.
Nicholas A. Sabatini,
Director, Flight Standards Service.

[FR Doc. 01-18400 Filed 7-23-01; 8:45 am]

BILLING CODE 4910-13-M